DEPARTMENT OF TRANSPORTATION

Federal Aviation Administration

14 CFR Part 71

[Docket No. FAA-2012-1345; Airspace Docket No. 12-ANM-31]

Modification of Class D and Class E Airspace and Establishment of Class E Airspace; Pasco, WA

AGENCY: Federal Aviation Administration (FAA), DOT.

ACTION: Final rule.

SUMMARY: This action establishes Class E surface airspace at Tri-Cities Airport, Pasco, WA, to accommodate aircraft using Area Navigation (RNAV) Global Positioning System (GPS) standard instrument approach procedures at Tri-Cities Airport, Pasco, WA. The geographic coordinates of Tri-Cities Airport and Vista Field Airport, Kennewick, WA, formerly called Vista Airport, are adjusted for existing Class D and E airspace. This action also makes a minor change to the legal description of the Class E airspace designated as an extension to Class D surface area. This improves the safety and management of Instrument Flight Rules (IFR) operations at the airport.

DATES: Effective date, 0901 UTC, August 22, 2013. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue SW., Renton, WA, 98057; telephone (425) 203-4537.

SUPPLEMENTARY INFORMATION:

History

On March 26, 2013, the FAA published in the Federal Register a notice of proposed rulemaking (NPRM) to establish Class E surface airspace and modify Class D and E airspace at Pasco, WA (78 FR 18259). Interested parties were invited to participate in this rulemaking effort by submitting written comments on the proposal to the FAA. No comments were received.

The FAA's Aeronautical Products Office found that the Pasco Compass Locator at ILS Outer Marker (LOM) has been decommissioned and needs to be removed from Class E airspace designated as an extension to Class D surface area. With the exception of editorial changes and the changes described above, this rule is the same as that proposed in the NPRM.

Class E airspace designations are published in paragraphs 5000, 6002, 6004 and 6005, respectively, of FAA Order 7400.9W dated August 8, 2012, and effective September 15, 2012, which is incorporated by reference in 14 CFR 71.1. The Class E airspace designations listed in this document will be published subsequently in that Order.

The Rule

This action amends Title 14 Code of Federal Regulations (14 CFR) Part 71 by establishing Class E surface airspace within a 4.3-mile radius, with exclusion, at Tri-Cities Airport, Pasco, WA, to accommodate IFR aircraft executing RNAV (GPS) standard instrument approach procedures at the airport. Also, Vista Airport, Kennewick, WA, is renamed Vista Field Airport, and the geographic coordinates of the airports are updated to coincide with the FAA's aeronautical database for existing Class D airspace, Class E airspace designated as an extension to Class D surface area, and Class E airspace extending upward from 700 feet above the surface, at Pasco, WA. This action is necessary for the safety and management of IFR operations.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes additional controlled airspace at Tri-Cities Airport, Pasco, WA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9W, Airspace Designations and Reporting Points, dated August 8, 2012, and effective September 15, 2012 is amended as follows:

Paragraph 5000 Class D airspace.

* * * * *

ANM WA D Pasco, WA [Modified]

Pasco, Tri-Cities Airport, WA

(Lat. 46°15′53″ N., long. 119°07′09″ W.)

Kennewick, Vista Field Airport, WA

(Lat. 46°13′07″ N., long. 119°12′36″ W.)

That airspace extending upward from the surface to and including 2,900 feet MSL within a 4.3-mile radius of Tri-Cities Airport, excluding that airspace within a 2-mile radius of Vista Field Airport. This Class D airspace area is effective during the specific dates and times established in advance by a Notice to Airmen. The effective date and time will thereafter be continuously published in the Airport/Facility Directory.

Paragraph 6002 Class E airspace designated as surface areas.

* * * * *

ANM WA E2 Pasco, WA [New]

Pasco, Tri-Cities Airport, WA

(Lat. 46°15′53″ N., long. 119°07′09″ W.)

Kennewick, Vista Field Airport, WA

(Lat. 46°13′07″ N., long. 119°12′36″ W.)

Within a 4.3-mile radius of Tri-Cities Airport, excluding that airspace within a 2-mile radius of Vista Field Airport. This Class E airspace area is effective during the specific dates and times established in advance by a Notice to Airmen. The effective date and time will thereafter be continuously published in the Airport/Facility Directory.

Paragraph 6004 Class E airspace designated as an extension to a Class D surface area.

* * * * *

ANM WA E4 Pasco, WA [Modified]

Pasco, Tri-Cities Airport, WA

(Lat. 46°15′53″ N., long. 119°07′09″ W.)

Pasco VOR/DME

(Lat. 46°15′47″ N., long. 119°06′57″ W.)

That airspace extending upward from the surface within 3.5 miles each side of the Tri-Cities Airport 045° bearing extending from the 4.3-mile radius of the airport to 15 miles northeast of the airport, and within 2.7 miles each side of the Pasco VOR/DME 131° radial extending from the 4.3-mile radius of the airport to 7 miles southeast of the VOR/DME. This Class E airspace area is effective during the specific dates and times established in advance by a Notice to Airmen. The effective date and time will thereafter be continuously published in the Airport/Facility Directory.

Paragraph 6005 Class E airspace areas extending upward from 700 feet or more above the surface of the earth.

* * * * *

ANM WA E5 Pasco, WA [Modified]

Pasco, Tri-Cities Airport, WA

(Lat. 46°15′53″ N., long. 119°07′09″ W.)

Pasco VOR/DME

(Lat. 46°15′47″ N., long. 119°06′57″ W.)

Richland Airport, WA

(Lat. 46°18′20″ N., long. 119°18′15″ W.)

That airspace extending upward from 700 feet above the surface within 9.2 miles northwest and 5.3 miles southeast of the Pasco VOR/DME 046° and 226° radials extending from 20.1 miles northeast to 10.5 miles southwest of the VOR/DME, and within 8.3 miles northeast and 6.1 miles southwest of the Pasco VOR/DME 131° radial extending from the VOR/DME to 26.3 miles southeast of the VOR/DME, and within 4.3 miles north and 6.6 miles south of the Pasco VOR/DME 288° radial extending from 7 miles west of the VOR/DME to 23.1 miles west of the VOR/DME, and within 8.3 miles west and 4 miles east of the 026° bearing of Richland Airport extending 20.9 miles northeast of Richland Airport; that airspace extending upward from 1,200 feet above the surface bounded by a line beginning at lat. 45°49′00″ N., long. 118°00′00″ W.; to lat. 45°49′00″ N., long. 119°45′00″ W.; to lat. 47°00′00″ N., long. 119°45′00″ W., to lat. 47°00′00″ N., long. 118°00′00″ W.; thence to the point of origin.

Issued in Seattle, Washington, on May 24, 2013.
Clark Desing,
Manager, Operations Support Group, Western Service Center.

[FR Doc. 2013-13356 Filed 6-7-13; 8:45 am]

BILLING CODE 4910-13-P